DEPARTMENT OF AGRICULTURE

Food and Nutrition Service

The Emergency Food Assistance Program, Availability of Commodities for Fiscal Year 2000

AGENCY: Food and Nutrition Service, USDA.

ACTION: Notice.

SUMMARY: This notice announces the surplus and purchased commodities that the Department expects to make available for donation to States for use in providing food assistance to the needy under the Emergency Food Assistance Program (TEFAP) in Fiscal Year (FY) 2000. The commodities made available under this notice shall, at the discretion of the State, be distributed to organizations for use in preparing meals, and/or for distribution to households for home consumption.

EFFECTIVE DATE: October 1, 1999.

FOR FURTHER INFORMATION CONTACT: Lillie Ragan, Assistant Branch Chief, Household Programs Branch, Food Distribution Division, Food and Nutrition Service, U.S. Department of Agriculture, 3101 Park Center Drive, Alexandria, Virginia 22302-1594 or telephone (703) 305-2662.

SUPPLEMENTARY INFORMATION:

Background and Need for Action

Surplus Commodities

Surplus commodities donated for distribution under TEFAP are Commodity Credit Corporation (CCC) commodities determined to be available for donation by the Secretary of Agriculture under the authority of section 416 of the Agricultural Act of 1949, 7 U.S.C. 1431 (section 416) and commodities purchased under the surplus removal authority of section 32 of the Act of August 24, 1935, 7 U.S.C. 612c (section 32). The types of commodities typically made available under section 416 include dairy, grains, oils, and peanut products. The types of commodities purchased under section 32 include meat, poultry, fish, vegetables, dry beans, juices and fruits. Donations of surplus commodities were initiated in 1981 as part of the Department's efforts to reduce stockpiles of government-owned commodities, such as cheese, flour, butter, and cornmeal, which had been acquired under section 416. These donations responded to concern over the costs to taxpayers of storing large quantities of foods, while at the same time there were persons in need of food assistance. The authority to donate surplus commodities for distribution through TEFAP is currently codified in Section 202 of the Emergency Food Assistance Act of 1983, 7 U.S.C. 7502 (EFAA).

The supply of surplus commodities has been drastically reduced from the levels available in the early 1980s. These reductions are the result of changes in the agricultural commodity loan programs which have brought supply and demand into better balance, and accelerated donations and sales. However, this trend reversed itself beginning in FY 1997. In FY 1999, the Department purchased over $106.4 million worth of surplus commodities. The large surpluses were the result of the reduction in foreign sales due primarily to the Asian economic downturn. The following surplus commodities were purchased for donation in FY 1999 but will be delivered in the first quarter of FY 2000, because they did not become available for purchase until late in the year: frozen bison and instant nonfat dried milk. In addition to delivering these products for distribution in FY 2000, the Department anticipates that there will be sufficient quantities of nonfat dry milk available for donation under section 416, and salmon, pork, walnut pieces, trailmix, and canned chicken purchased under section 32, to support the donation of these commodities for distribution through TEFAP in FY 2000. The Department would like to point out that commodity acquisitions are based on changing agricultural market conditions; therefore, the availability of commodities is subject to change.

Purchased Commodities

Congress responded to the reduced availability of surplus commodities with section 104 of the Hunger Prevention Act of 1988, Pub. L. 100-435, which added sections 213 and 214 to the EFAA. Those sections require the Secretary to purchase commodities for distribution to States in addition to those surplus commodities which otherwise might be provided to States for distribution under TEFAP. Pursuant to section 871(d) of the Personal Responsibility and Work Opportunity Reconciliation Act of 1996, Pub. L. 104-193, Congress repealed the authorization of funds for food purchases under section 214 of the EFAA. In addition, section 871(g) added a new section 27 to the Food Stamp Act of 1977, 7 U.S.C. 2011 et seq. (FSA), under which the Secretary is required to use $100 million from the funds made available to carry out the FSA for each of FYs 1997 through 2002 to purchase a variety of nutritious and useful commodities and distribute the commodities to States for distribution through TEFAP. However, Pub. L. 106-78 (An Act making appropriations for the Agriculture, Rural Development, Food and Drug Administration, and Related Agencies programs for the fiscal year ending September 30, 2000, and for other purposes), limits the amount of funds available to purchase TEFAP commodities in FY 2000 to $98 million. A separate administrative funding appropriation of $45 million, as divided among the States, may be used, in whole or in part, at the discretion of each State, by the Department for the purchase of additional commodities for TEFAP.

For FY 2000, the Department anticipates purchasing the following commodities for distribution through TEFAP: fresh apples, peanut butter, roasted peanuts, rice, macaroni, spaghetti, egg noodles, oats, fortified cereal, bakery mix, egg mix, dehydrated potatoes, corn syrup, vegetable oil, dry bagged beans, raisins, prunes, the following canned foods: apple juice, applesauce, peaches, pears, plums, vegetarian beans, refried beans, green beans, potatoes, tomatoes, tomato sauce, vegetarian and tomato reduced-sodium soups, spaghetti sauce, tomato juice, corn, orange juice, grapefruit juice, pineapple juice, pork, tuna, beef, and chicken, as well as the following frozen foods: ground beef, whole chicken, ground turkey, and turkey roasts. The amounts of each item purchased will depend on the prices the Department must pay, as well as the quantity of each item requested by the States. Changes in agricultural market conditions may result in the availability of additional types of commodities or the non-availability of one or more types listed above. State officials will be responsible for determining how to allocate the commodities each State receives among eligible organizations. States have full discretion in determining the amount of commodities that will be made available to organizations for distribution to needy households for use in home-prepared meals or for providing prepared meals to the needy at congregate feeding sites.

Dated: January 11, 2000.
Samuel Chambers, Jr.,
Administrator.

[FR Doc. 00-1575 Filed 1-20-00; 8:45 am]

BILLING CODE 3410-30-U